EXPORT-IMPORT BANK

Review of Updated Additionality Guidance and Checklist for EXIM's Medium and Long-Term Transactions

AGENCY: Export-Import Bank.

ACTION: Notice.

SUMMARY: Pursuant to the Charter directive to supplement and encourage, and not compete with, private capital the Export-Import Bank (“EXIM”) reviews all applications for additionality. EXIM is in the process of updating the 2020 Guidance on assessing additionality and is seeking comments on proposed guidelines for determining Additionality on requests the Bank receives to support export transactions with repayment amortizing over the medium or long term. The proposed revisions can be viewed at: https://www.exim.gov/2024-draft-revised-additionality-checklist.

DATES: Comments are due 21 days from publication in the Federal Register.

ADDRESSES: Interested parties may submit comments on this transaction electronically on www.regulations.gov. To submit a comment, enter “Review of Updated Additionality Guidance and Checklist for EXIM's Medium and Long-term Transactions” under the heading “Enter Keyword or ID” and select Search. Follow the instructions provided at the Submit a Comment screen. Please include your name, company name (if any) and “Review of Updated Additionality Guidance and Checklist for EXIM's Medium and Long-term Transactions” on any attached document. Comments can also be sent by email to Scott.Condren@exim.gov.

Scott Condren,
Vice President, Policy Analysis Division.

[FR Doc. 2024-27519 Filed 11-22-24; 8:45 am]

BILLING CODE 6690-01-P